DEPARTMENT OF HEALTH AND HUMAN SERVICES

Centers for Disease Control and Prevention

[60Day-03-57]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda M. Perryman, CDC Assistant Reports Clearance Officer, 1600 Clifton Road, MS-D24, Atlanta, GA 30333. Written comments should be received within 14 days of this notice.

Proposed Project: Severe Acute Respiratory Syndrome (SARS) Outbreak Investigation—New—National Center for Infectious Diseases (NCID), Centers for Disease Control and Prevention (CDC). The purpose of this project is to respond to an outbreak of unknown etiology in the United States and abroad. Since late February 2003, CDC has been supporting the World Health Organization (WHO) in the investigation of a multicountry outbreak of atypical pneumonia of unknown etiology. The illness is being referred to as severe acute respiratory syndrome (SARS). By March 2003, cases of SARS were reported in the U.S. among travelers with a travel history to one or more of the three provinces in Asia where the SARS outbreak was first reported.

In order to investigate this outbreak in the U.S., several collections of information are required. Currently, CDC is collecting this information under an Epidemic Aid (epi-aid) which will expire in 30 days. To preserve continuity in the surveillance information collected by public health investigators, CDC is requesting a 6-month emergency clearance on the current surveillance forms. The information collected includes contact information for travelers on a flight with a person or persons suspected of having SARS, health care work exposures, and case report forms. There is no cost to the respondent.

Form | Respondent | Number of respondents | Number of responses/respondent | Avg. burden/response (in hrs) | Total burden hours
International SARS case reports | Caseworker | 500 | 1 | 30/60 | 250
SARS contact information | Airline passengers | 3,000 | 1 | 5/60 | 250
SARS retrospective exposure form | Quarantine inspector | 1,000 | 1 | 5/60 | 83
SARS screening form | Health care workers | 330 | 1 | 10/60 | 55
Health care worker exposure form | Health care workers | 500 | 1 | 20/60 | 167
Unprotected HCW form | Health care workers | 500 | 1 | 20/60 | 167
SARS case Report intake form | Health care workers/epidemiologists | 750 | 1 | 1 | 750
Total |  |  |  |  | 1,722

Dated: April 4, 2003.
Thomas Bartenfeld,
Acting Associate Director for Policy, Planning and Evaluation, Centers for Disease Control and Prevention.

[FR Doc. 03-8748 Filed 4-9-03; 8:45 am]

BILLING CODE 4163-18-P